DEPARTMENT OF JUSTICE

Notice of Lodging of Proposed Consent Decrees Under the Comprehensive Environmental Response, Compensation, and Liability Act

Notice is hereby given that on March 19, 2013, a proposed Consent Decree in United States v. SL Industries, Inc. and SL Surface Technologies, Inc., Civil Action No. 1:13-cv-01690-JBS-KMW, was lodged with the United States Court for the District of New Jersey.

In this action brought pursuant to Sections 106, 107, and 113(g)(2) of the Comprehensive Environmental Response, Compensation, and Liability Act of 1980, 42 U.S.C. 9606, 9607 and 9613(g)(2) (“CERCLA”), the United States seeks injunctive relief requiring SL Industries, Inc. and SL Surface Technologies, Inc. (“Settling Defendants”) to perform the remedy selected by the Environmental Protection Agency (“EPA”) in the Record of Decision for Operable Unit 2 (“OU2”) of the Puchack Well Field Superfund Site (“Site”) located in Pennsauken Township, Camden County, New Jersey. The United States also seeks to recover costs incurred and to be incurred by the United States in response to releases or threatened releases of hazardous substances at or from the Site.

The settlement, based on Settling Defendants' limited “ability to pay,” requires Settling Defendants to undertake a Remedial Design/Remedial Action for OU2, which includes remediation of hexavalent chromium in soils at Settling Defendants' facility. The settlement also requires Settling Defendants to reimburse EPA $10,704,583 in past response costs by making five equal payments, plus interest, over the course of approximately four years. The Consent Decree also requires Settling Defendants to reimburse EPA's future oversight costs related to OU2.

The publication of this notice opens a period for public comment on the Consent Decree. Comments should be addressed to the Assistant Attorney General, Environment and Natural Resources Division, and should refer to United States v. SL Industries, Inc. and SL Surface Technologies, Inc.., D.J. Ref. No. 90-11-3-09813. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: http://www.usdoj.gov/enrd/Consent_Decrees.html. We will provide paper copies of the consent decree upon written request and payment of reproduction costs. Please mail your request and payment to:

Consent Decree Library, U.S. DOJ—ENRD, P.O. Box 7611, Washington, DC 20044-7611.

Please enclose a check or money order for $73.00 (25 cents per page reproduction cost) payable to the United States Treasury.

Maureen Katz,
Assistant Section Chief, Environmental Enforcement Section, Environment and Natural Resources Division.

[FR Doc. 2013-06741 Filed 3-22-13; 8:45 am]

BILLING CODE 4410-15-P